NUCLEAR REGULATORY COMMISSION

10 CFR Part 35

RIN 3150-AH08

Medical Use of Byproduct Material: Clarifying and Minor Amendments; Confirmation of Effective Date

AGENCY: Nuclear Regulatory Commission.

ACTION: Direct final rule; confirmation of effective date.

SUMMARY: The Nuclear Regulatory Commission (NRC) is confirming the effective date of July 7, 2003, for the direct final rule that was published in the Federal Register of April 21, 2003, (68 FR 19321). This direct final rule amended the NRC's regulations to clarify certain sections of Part 35, correct the title for the National Institute of Standards and Technology, and eliminate a restriction regarding training for ophthalmic use of strontium-90.

DATES: The effective date of July 7, 2003 is confirmed for this direct final rule.

ADDRESSES: Documents related to this rulemaking, including comments received, may be examined at the NRC Public Document Room, Room O-1F23, 11555 Rockville Pike, Rockville, MD. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: Dr. Anthony N. Tse, Office of Nuclear Material Safety and Safeguards, U.S. Nuclear Regulatory Commission, Washington, DC 20555, telephone (301) 415-6233 (e-mail: ant@nrc.gov).

SUPPLEMENTARY INFORMATION: On April 21, 2003, (68 FR 19321), the NRC published a direct final rule amending its regulations in 10 CFR part 35. This direct final rule clarified: the definitions of authorized users, authorized medical physicists, authorized nuclear pharmacists, and radiation safety officers; the notification requirements if the patient is in a medical emergency or dies; and the recordkeeping requirements for calibration of brachytherapy sources. In addition, the amendments corrected the title for the National Institute of Standards and Technology; clarified that prior to October 24, 2004, individuals who meet the training and experience requirements in Subpart J may undertake responsibilities specified in certain sections in Subparts B and D-H; and eliminated a restriction that training for ophthalmic use of strontium-90 can only be conducted in medical institutions. In the direct final rule, NRC stated that if no significant adverse comments were received, the direct final rule would become final on July 7, 2003. The NRC did not receive any comments that warranted withdrawal of the direct final rule. Therefore, this rule will become effective as scheduled.

Dated at Rockville, Maryland, this 10th day of June, 2003.
For the Nuclear Regulatory Commission.
Michael T. Lesar,
Chief, Rules and Directives Branch, Division of Administrative Services, Office of Administration.

[FR Doc. 03-15122 Filed 6-13-03; 8:45 am]

BILLING CODE 7590-01-P